NUCLEAR REGULATORY COMMISSION

[NRC-2019-0226]

Agency Action Regarding the Exploratory Process for the Development of an Advanced Nuclear Reactor; Generic Environmental Impact Statement

AGENCY: Nuclear Regulatory Commission.

ACTION: Gather information that would be used to determine whether to prepare a generic environmental impact statement for the construction and operation of advanced nuclear reactors; extension of comment period.

SUMMARY: On November 15, 2019 and November 20, 2019, the U.S. Nuclear Regulatory Commission (NRC) held public meetings and solicited comments on the exploratory process to determine whether to proceed with the development of generic environmental impact statement for the construction and operation of advanced nuclear reactors (ANR GEIS). The public comment period was originally scheduled to close on December 31, 2019. The NRC has decided to extend the public comment period to allow more time for members of the public to develop and submit their comments. The NRC originally planned to hold a workshop on the exploratory process in December 2019. The workshop has been rescheduled for January 8, 2020. The meeting information will be posted on the NRC's public website.

DATES: The due date of comments requested in the document published on November 15, 2019 (84 FR 62599) is extended. Comments should be filed no later than January 24, 2019. Comments received after this date will be considered, if it is practical to do so, but the Commission is able to ensure consideration only for comments received on or before this date. Workshop date rescheduled for January 8, 2020.

ADDRESSES: You may submit comments by any of the following methods:

• Federal Rulemaking Website: Go to https://www.regulations.gov and search for Docket ID NRC-2019-0226. Address questions about NRC dockets IDs in Regulations.gov to Jennifer Borges; telephone: 301-287-9127; email: Jennifer.Borges@nrc.gov. For technical questions, contact the individual(s) listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack Cushing, Office of Nuclear Material Safety and Safeguards, telephone: 301-415-1424, email: Jack.Cushing@nrc.gov or Mallecia Sutton, Office of Nuclear Reactor Regulation, telephone: 301-415-0673, email: Mallecia.Sutton@nrc.gov. Both are staff of the U.S. Nuclear Regulatory Commission, Washington, DC 20555-0001.

SUPPLEMENTARY INFORMATION:

I. Obtaining Information and Submitting Comments

A. Obtaining Information

Please refer to Docket ID NRC-2019-0226 when contacting the NRC about the availability of information for this action. You may obtain publicly-available information related to this action by any of the following methods:

• Federal Rulemaking Website: Go to https://www.regulations.gov and search for Docket ID NRC-2019-0226.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The original notice was issued on November 15, 2019 and is available in ADAMS under Accession No. ML19302G126.

• NRC's PDR: You may examine and purchase copies of public documents at the NRC's PDR, Room O1-F21, One White Flint North, 11555 Rockville Pike, Rockville, Maryland 20852.

B. Submitting Comments

Please include Docket ID NRC-2019-0226 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On November 15, 2019 (84 FR 62599), the NRC solicited comments on the exploratory process to determine whether to proceed with the development of generic environmental impact statement for the construction and operation of advanced nuclear reactors (ANR GEIS). The intent of an ANR GEIS is to improve the efficiency of the environmental review process. The public comment period was originally scheduled to close on December 31, 2019. The NRC has decided to extend the public comment period on this process until January 24, 2019, to allow more time for members of the public to submit their comments. The NRC is also rescheduling the workshop on the exploratory process from December 2019 to January 8, 2020. The meeting information will be posted on the NRC's public website at https://www.nrc.gov/pmns/mtg.

Dated at Rockville, Maryland, this 4th day of December 2019.
For the Nuclear Regulatory Commission.
Joseph P. Doub,
Acting Chief, Environmental Review New Reactors Branch, Division of Rulemaking, Environmental, and Financial Support, Office of Nuclear Material Safety and Safeguards.

[FR Doc. 2019-26442 Filed 12-6-19; 8:45 am]

BILLING CODE 7590-01-P